ENVIRONMENTAL PROTECTION AGENCY

[EPA-HQ-OPPT-2016-0111; FRL-9950-33]

Agency Information Collection Activities; Proposed Renewal of an Existing Collection (EPA ICR No. 2487.02 and OMB Control No. 2070-0189); Comment Request

AGENCY: Environmental Protection Agency (EPA).

ACTION: Notice.

SUMMARY: In compliance with the Paperwork Reduction Act (PRA), this document announces that EPA is planning to submit an Information Collection Request (ICR) to the Office of Management and Budget (OMB). The ICR, entitled: “Safer Choice Logo Redesign Consultations” and identified by EPA ICR No. 2487.02 and OMB Control No. 2070-0189, represents the renewal of an existing ICR that is scheduled to expire on February 28, 2017. Before submitting the ICR to OMB for review and approval, EPA is soliciting comments on specific aspects of the proposed information collection that is summarized in this document. The ICR and accompanying material are available in the docket for public review and comment.

DATES: Comments must be received on or before January 3, 2017.

ADDRESSES: Submit your comments, identified by docket identification (ID) number EPA-HQ-OPPT-2016-0111, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Wen Chen, Chemistry, Economics & Sustainable Strategies Division (7406-M), Office of Pollution Prevention and Toxics, Environmental Protection Agency, 1200 Pennsylvania Ave. NW., Washington, DC 20460-0001; telephone number: (202) 564-8849; email address: wen.chen@epa.gov.

For general information contact: The TSCA-Hotline, ABVI-Goodwill, 422 South Clinton Ave. Rochester., NY 14620; telephone number: (202) 554-1404; email address: TSCA-Hotline@epa.gov.

SUPPLEMENTARY INFORMATION:

I. What information is EPA particularly interested in?

Pursuant to PRA section 3506(c)(2)(A) (44 U.S.C. 3506(c)(2)(A)), EPA specifically solicits comments and information to enable it to:

1. Evaluate whether the proposed collection of information is necessary for the proper performance of the functions of the Agency, including whether the information will have practical utility.

2. Evaluate the accuracy of the Agency's estimates of the burden of the proposed collection of information, including the validity of the methodology and assumptions used.

3. Enhance the quality, utility, and clarity of the information to be collected.

4. Minimize the burden of the collection of information on those who are to respond, including through the use of appropriate automated electronic, mechanical, or other technological collection techniques or other forms of information technology, e.g., permitting electronic submission of responses. In particular, EPA is requesting comments from very small businesses (those that employ less than 25) on examples of specific additional efforts that EPA could make to reduce the paperwork burden for very small businesses affected by this collection.

II. What information collection activity or ICR does this action apply to?

Title: Safer Choice Logo Redesign Consultations.

ICR number: EPA ICR No. 2487.02.

OMB control number: OMB Control No. 2070-0189.

ICR status: This ICR is currently scheduled to expire on February 28, 2017. An Agency may not conduct or sponsor, and a person is not required to respond to, a collection of information, unless it displays a currently valid OMB control number. The OMB control numbers for EPA's regulations in title 40 of the Code of Federal Regulations (CFR), after appearing in the Federal Register when approved, are listed in 40 CFR part 9, are displayed either by publication in the Federal Register or by other appropriate means, such as on the related collection instrument or form, if applicable. The display of OMB control numbers for certain EPA regulations is consolidated in 40 CFR part 9.

Abstract: This information collection supports the consultation process by which the U.S. Environmental Protection Agency (EPA) will refine and enhance its logo redesign and education approach for the Safer Choice Product Recognition Program (Safer Choice program), formerly known as the Design for the Environment Program. The Safer Choice program recognizes products where all ingredients meet EPA's stringent requirements for human health and the environment as found in the Safer Choice Standard. Under the encouragement of the current program, leading companies have already made great progress in developing safer, highly effective chemical products. Since the program's inception in 1997, formulators have been using the program as a portal to OPPT's unique chemical expertise, information resources, and guidance on greener chemistry. Safer Choice partners enjoy Agency recognition, including the use of the Safer Choice label on qualifying products.

The Safer Choice program adopted a new logo in March 2015 in response to stakeholder feedback. Following the launch of the new logo, EPA will conduct consumer surveys to gauge consumer recognition of the new logo and understand how the new logo and educational activities are diffusing over time and changing purchasing decisions. This ICR will enable Safer Choice to collect feedback from consumers through focus groups and online surveys and integrate it into the program, which will help to strengthen the visibility of the logo and program, improve product recognition among formulators and partners, and further promote chemical safety.

Responses to the collection of information are voluntary. Respondents may claim all or part of a notice confidential. EPA will disclose information that is covered by a claim of confidentiality only to the extent permitted by, and in accordance with, the procedures in TSCA section 14 and 40 CFR part 2.

Burden statement: The annual public reporting and recordkeeping burden for this collection of information is estimated to range between 0.17 hours and 2.0 hours per response depending upon the nature of the respondent. Burden is defined in 5 CFR 1320.3(b).

The ICR, which is available in the docket along with other related materials, provides a detailed explanation of the collection activities and the burden estimate that is only briefly summarized here:

Respondents/Affected Entities: Entities potentially affected by this ICR are individual adult consumers who are members of the general population.

Estimated total number of potential respondents: 2,330.

Frequency of response: On occasion.

Estimated total average number of responses for each respondent: 1.0.

Estimated total annual burden hours: 777 hours.

Estimated total annual costs: $29,513. This includes an estimated burden cost of $29,513 and an estimated cost of $0 for capital investment or maintenance and operational costs.

III. Are there changes in the estimates from the last approval?

There is a decrease of 1,220 hours in the total estimated respondent burden compared with that identified in the ICR currently approved by OMB. This decrease reflects a reduction in the total number of responses because EPA will conduct fewer consumer online surveys. This change is an adjustment.

IV. What is the next step in the process for this ICR?

EPA will consider the comments received and amend the ICR as appropriate. The final ICR package will then be submitted to OMB for review and approval pursuant to 5 CFR 1320.12. EPA will issue another Federal Register document pursuant to 5 CFR 1320.5(a)(1)(iv) to announce the submission of the ICR to OMB and the opportunity to submit additional comments to OMB. If you have any questions about this ICR or the approval process, please contact the technical person listed under FOR FURTHER INFORMATION CONTACT.

Authority: 44 U.S.C. 3501 et seq.

Dated: October 27, 2016.
James Jones,
Assistant Administrator, Office of Chemical Safety and Pollution Prevention.

[FR Doc. 2016-26619 Filed 11-2-16; 8:45 am]

BILLING CODE 6560-50-P